DEPARTMENT OF THE INTERIOR

Fish and Wildlife Service

Availability of an Environmental Assessment and Receipt of an Application for an Incidental Take Permit for the Dos Pueblos Golf Links, Santa Barbara County, CA

AGENCY: Fish and Wildlife Service, Interior.

ACTION: Notice of availability.

SUMMARY: CPH Dos Pueblos Associates, L.L.C., and ARCO Environmental Remediation, L.L.C., (Applicants) have applied to the Fish and Wildlife Service (Service) for Incidental Take Permits (Permits) pursuant to section 10(a)(1)(B) of the Endangered Species Act of 1973, as amended (Act). The proposed Permits would authorize take of the California red-legged frog (Rana aurora draytonii) and the tidewater goby (Eucyclogobius newberryi) incidental to otherwise lawful activities west of Goleta, Santa Barbara County, California. The proposed permit duration is 25 years for CPH Dos Pueblos Associates and 10 years for ARCO Environmental Remediation.

The application includes: (1) The proposed Habitat Conservation Plan (Plan), which fully describes the proposed project and the measures that the Applicant would undertake to minimize and mitigate anticipated take of the California red-legged frog and tidewater goby, as required in section 10(a)(2)(B) of the Act; and (2) the proposed Implementing Agreement. The Service also announces the availability of an Environmental Assessment for the permit application.

This notice is provided to section 10(a) of the Act and National Environmental Policy Act regulations (40 CFR 1506.6). The Plan, Implementing Agreement, and the Environmental Assessment are available for review and comment by other agencies and the public. All comments received, including names and addresses, will become part of the public record and will be available for review pursuant to section 10(c) of the Act.

DATES: Written comments must be received no later than October 1, 2001.

ADDRESSES: Written comments should be addressed to Diane Noda, Field Supervisor, Ventura Fish and Wildlife Office, 2493 Portola Road, Ventura, California 93003. Comments may also be sent by facsimile to (805) 644-3958.

FOR FURTHER INFORMATION CONTACT: Bridget Fahey, Fish and Wildlife Biologist, at the above address or by calling (805) 644-1766.

SUPPLEMENTARY INFORMATION:

Document Availability

You may obtain copies of these documents by contacting the Ventura Fish and Wildlife Office at the above address and telephone number. Documents also will be available for public inspection, by appointment, during normal business hours at the Ventura Fish and Wildlife Office.

Background

Section 9 of the Act and Federal regulation prohibit the “take” of fish or wildlife species listed as endangered or threatened, respectively. Take of listed fish or wildlife is defined under the Act to mean harass, harm, pursue, hunt, shoot, wound, kill, trap, capture, or collect, or to attempt to engage in any such conduct. However, the Service, under limited circumstances, may issue permits to authorize incidental take; i.e., take that is incidental to, and not the purpose of, the carrying out of an otherwise lawful activity. Regulations governing incidental take permits for threatened and endangered species are found at 50 CFR 17.32 and 17.22, respectively.

The Applicants have proposed to construct a golf course on a 208-acre parcel. The project site is located 5 miles west of Goleta, south of State Highway 101 between Dos Pueblos Canyon and Eagle Canyon in Santa Barbara County, California. Typical land uses in the area surrounding the project site include several residential developments, one commercial center, and undeveloped coastal sage scrub areas. The Pacific Ocean is south of the project site. The applicant proposes to construct, operate, and maintain an 18-hole links style golf course, a 9-hole par-three golf course, driving range, putting green, turf farm, clubhouse, and other appurtenant facilities after removing contaminated soils from the site.

Biologist surveyed the project site for special-status plants and wildlife in 1999 and 2000. Based on these surveys, the Service concluded that the project may result in the take of two federally listed species, the threatened California red-legged frog and the endangered tidewater goby.

Activities covered by the requested Permits and addressed by the proposed Plan include the construction, operation, and maintenance of an 18-hole links style golf course, a 9-hole par-three golf course, driving range, putting green, turf farm, clubhouse, and other appurtenant facilities on a 208-acre site along the Pacific Coast in Santa Barbara County, California. This project would permanently alter 115 acres of upland dispersal habitat for the California red-legged frog and could indirectly affect the 0.5 acres aquatic habitat for the California red-legged frog and tidewater goby.

The Applicants propose to implement 60 measures to minimize and mitigate take of the California red-legged frog and tidewater goby, including: (1) Water quality monitoring in natural drainages and the one vernal pool on site to ensure that water quality is not being degraded; (2) conducting environmental training for construction and maintenance personnel to educate them concerning federal listed species; (3) placing restrictions pertaining to pets and using signs to educate the public and encourage protection of the adjacent biological resources; (4) seasonally closing public access to the beach at the mouth of Eagle Canyon from February 1 to May 31 to protect sensitive life stages (i.e., eggs and tadpoles) of California red-legged frogs; (5) implementing best management practices for erosion and sediment control during construction; requiring Service-approved biologists to monitor and relocate dispersing California red-legged frogs found within construction areas; (6) implementing a bullfrog monitoring and removal program for the life of the project; and (7) mitigating the take of California red-legged frogs and tidewater gobies by creating 1.15 acres of southern willow scrub and permanently protecting 7.53 acres of California red-legged frog breeding and dispersal habitat, and 0.5 acres of tidewater goby habitat under a conservation easement. The Applicants would endow the management of the off-site mitigation area at either a cost of $2,500/acre or an amount determined by the easement holder, whichever is greater.

The Environmental Assessment considers the environmental consequences of five alternatives in addition to the Proposed Project Alternative. The Proposed Project Alternative consists of the issuance of Permits and implementation of the Plan and its Implementing Agreement, which include measures to minimize and mitigate impacts of the project to the California red-legged frog and tidewater goby.

Under the Reduced Project Alternative, the par-three golf course adjacent to Eagle Canyon would be eliminated, but coastal access would still be developed. This alternative would have similar impacts to listed species as the proposed action, although the potential for deleterious effects to water quality in Eagle Canyon Creek would be reduced.

Under the Alternative Sites Project Alternative, the golf course would be constructed at one of two other sites, the Naples Site or the Patterson Site. As the Naples Site could also contain habitat for the California red-legged frog and tidewater goby, effects to listed species would be similar to the effects of the proposed action. Effects to listed species would be reduced if the Patterson Site were chosen; however, due to restrictions on the conversion of the Patterson site from agriculture, this site is not a viable alternative.

The No Eastern Vertical Access Alternative would allow for the construction and operation of the golf course, but no vertical access into Eagle Canyon Creek would be built. Without managed access, continued foot traffic through the drainage from trespassers could result in grater effects to listed species than the proposed project alternative.

The Eastern Vertical Access within Eagle Canyon Alternative would allow the construction of a foot path directly into Eagle Canyon, as was originally proposed by the Applicants, rather than down the cliff face to the mouth. This alternative would result in increased effects to listed species, by effectively bringing people in direct contact with listed species habitat.

Under the No Action Alternative, the Service4 would not issue a permit and the project area would continue to remain in its present condition. As illegal trespass would likely continue within Eagle Canyon Creek, effects to California red-legged frogs and tidewater gobies would be likely.

This notice is provided pursuant to section 10(a) of the Act and the National Environmental Policy Act of 1969 regulations (40 CFR 1506.6). The Service will evaluate the application, associated documents, and comments submitted thereon to determine whether the application meets the requirements of the National Environmental Policy Act regulations and section 10(a) of the Act. If it is determined that the requirements are met, a permit will be issued to the Applicants for the incidental take of the California red-legged frog and tidewater goby. The final permit decision will be made no sooner than 60 days from the date of this notice.

Dated: July 25, 2001.
John Engbring,
Acting Manager, California/Nevada Operations Office, Sacramento, California.

[FR Doc. 01-18973 Filed 7-30dash;01; 8:45 am]

BILLING CODE 4310-55-M